DEPARTMENT OF TRANSPORTATION

Federal Aviation Administration

14 CFR Part 39

[Docket No. FAA-2005-21679; Directorate Identifier 2004-SW-33-AD]

RIN 2120-AA64

Airworthiness Directives; Robinson Helicopter Company Model R22 Series Helicopters

AGENCY: Federal Aviation Administration, DOT.

ACTION: Notice of proposed rulemaking (NPRM).

SUMMARY: This document proposes adopting a new airworthiness directive (AD) for the Robinson Helicopter Company (RHC) Model R22 series helicopters. The AD would require replacing each main rotor blade (blade) droop and teeter stop (stop) and teeter stop bracket (bracket) and associated hardware with redesigned and improved airworthy parts. This proposal is prompted by an in-flight break up of a helicopter on which both brackets failed. The actions specified by the proposed AD are intended to prevent failure of the stops and brackets, blade contact with the airframe, and subsequent loss of control of the helicopter.

DATES: Comments must be received on or before August 29, 2005.

ADDRESSES: Use one of the following addresses to submit comments on this proposed AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: 202-493-2251; or

• Hand Delivery: Room PL-401 on the plaza level of the Nassif Building, 400 Seventh Street, SW., Washington, DC, between 9 a.m. and 5 p.m., Monday through Friday, except Federal holidays.

You may get the service information identified in this proposed AD from Robinson Helicopter Company, 2901 Airport Drive, Torrance, California 90505, telephone (310) 539-0508, fax (310) 539-5198.

You may examine the comments to this proposed AD in the AD docket on the Internet at http://dms.dot.gov.

FOR FURTHER INFORMATION CONTACT: Fred Guerin, Aviation Safety Engineer, FAA, Los Angeles Aircraft Certification Office, Airframe Branch, 3960 Paramount Blvd., Lakewood, California 90712, telephone (562) 627-5232, fax (562) 627-5210.

SUPPLEMENTARY INFORMATION:

Comments Invited

We invite you to submit any written data, views, or arguments regarding this proposed AD. Send your comments to the address listed under the caption ADDRESSES. Include the docket number “FAA-2005-21679, Directorate Identifier 2004-SW-33-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78), or you may visit http://dms.dot.gov.

Examining the Docket

You may examine the docket that contains the proposed AD, any comments, and other information in person at the Docket Management System (DMS) Docket Office between 9 a.m. and 5 p.m., Monday through Friday, except Federal holidays. The Docket Office (telephone 1-800-647-5227) is located at the plaza level of the Department of Transportation NASSIF Building in Room PL-401 at 400 Seventh Street, SW., Washington, DC. Comments will be available in the AD docket shortly after the DMS receives them.

Discussion

This document proposes adopting a new AD for the RHC Model R22 series helicopters. The AD would require replacing the stops and brackets with redesigned, airworthy parts. This proposal is prompted by an accident that involved an in-flight breakup of a helicopter. The helicopter was found to have old part-numbered stops and brackets. While the probable cause of the in-flight breakup has not been determined, we believe the failure of the stops or brackets may have been a contributing factor. Thus, continued flight beyond 3 months with the older part-numbered stops and bracket constitutes an unsafe condition. The actions specified by the proposed AD are intended to prevent failure of the stops and brackets, blade contact with the airframe, and subsequent loss of control of the helicopter.

We have reviewed RHC Service Bulletins SB-78, dated April 26, 1995 (SB-78), and SB-78A, dated May 27, 2004 (SB-78A). The service bulletins describe procedures for replacing the stops and brackets. SB-78A was issued following an accident investigation that revealed the accident helicopter did not have the strengthened stops and brackets installed as specified in SB-78. Failure of the brackets could allow excessive teetering of the main rotor.

This unsafe condition is likely to exist or develop on other helicopters of the same type design. Therefore, the proposed AD would require, within 3 months, replacing the stops and brackets with redesigned, airworthy stops and brackets. The actions would be required to be done by following the service bulletin described previously.

There are approximately 2517 helicopters of the affected design in the worldwide fleet. We estimate that this proposed AD would affect 900 helicopters of U.S. registry and would take about 1 work hour per helicopter to replace the stops and brackets at an average labor rate of $65 per work hour. Required parts would cost about $130 per helicopter. Based on these figures, the total cost impact of the proposed AD on U.S. operators would be $87,750, assuming one-half of the U.S. helicopters have the older part-numbered stops and brackets installed and would need to replace them.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the DMS to examine the draft economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Robinson Helicopter Company: Docket No. FAA-2005-21679; Directorate Identifier 2004-SW-33-AD.

Applicability: Model R22 series helicopters, serial numbers (S/N) 0002 through 2519, certificated in any category.

Compliance: Required as indicated, unless accomplished previously.

To prevent failure of the main rotor blade (blade) droop and teeter stop (stop) and teeter stop bracket (bracket), blade contact with the airframe, and subsequent loss of control of the helicopter, accomplish the following:

(a) Within 3 months, replace the stops, brackets, and washers with redesigned, airworthy teeter stops, part number (P/N) B151-3, droop stops, P/N A150-1, Revision F, brackets, P/N B 226-2, and washers by following the Compliance Procedure, paragraphs 2, 3, 5, and 6, of Robinson Helicopter Company Service Bulletin SB-78A, dated May 27, 2004.

(b) Replacing the stops, brackets, and washers with redesigned, airworthy stops, brackets, and washers constitutes terminating action for the requirements of this AD.

(c) To request a different method of compliance or a different compliance time for this AD, follow the procedures in 14 CFR 39.19. Contact the Los Angeles Aircraft Certification Office (LAACO), FAA, for information about previously approved alternative methods of compliance.

Issued in Fort Worth, Texas, on June 20, 2005.
S. Frances Cox,
Acting Manager, Rotorcraft Directorate, Aircraft Certification Service.

[FR Doc. 05-12688 Filed 6-27-05; 8:45 am]

BILLING CODE 4910-13-P